DEPARTMENT OF ENERGY

Secretary of Energy Advisory Board

AGENCY: Department of Energy.

ACTION: Notice of cancellation of open meeting.

SUMMARY: On November 2, 2016, the Department of Energy (DOE) published a notice of open meeting scheduled for December 13, 2016, of the Secretary of Energy Advisory Board. This notice announces the cancellation of this meeting. The meeting is being cancelled because the board will not have a quorum due to scheduling conflicts by members. The next regular meeting will be held at a date to be determined.

DATES: The meeting scheduled for December 13, 2016, announced in the November 2, 2016, issue of the Federal Register (FR Doc. 2016-26419, 81 FR 212), is cancelled.

FOR FURTHER INFORMATION CONTACT: Karen Gibson, Designated Federal Officer, U.S. Department of Energy, 1000 Independence Avenue SW., Washington, DC 20585; seab@hq.doe.gov.

Issued at Washington, DC, on November 8, 2016.
LaTanya R. Butler,
Deputy Committee Management Officer.

[FR Doc. 2016-27362 Filed 11-14-16; 8:45 am]

BILLING CODE 6405-01-P